DEPARTMENT OF LABOR

Office of the Secretary

Submission for OMB Review; Comment Request

August 26, 2002.

The Department of Labor (DOL) has submitted the following public information collection requests (ICRs) to the Office of Management and Budget (OMB) for review and approval in accordance with the Paperwork Reduction Act of 1995 (Pub. L. 104-13, 44 U.S.C. Chapter 35). A copy of each ICR, with applicable supporting documentation, may be obtained by calling the Department of Labor. To obtain documentation contact Darrin King on (202) 693-4129 to e-mail: King-Darrin@dol.gov.

Comments should be sent to Office of Information and Regulatory Affairs, Attn: OMB Desk Officer for OSHA, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Occupational Safety and Health Administration (OSHA).

Title: Blasting Operations.

Type of Review: Extension.

OMB Number: 1218-0217.

Frequency: On occasion.

Affected Public: Business or other for-profit; Federal Government, and State, Local or Tribal Government.

Number of Respondents: 160.

Number of Annual Responses: 160.

Estimated Time Per Response: 8 hours.

Total Burden Hours: 1,280 hours.

Total Annualized capital/startup costs: $0.

Total annual costs (operating/maintaining systems or purchasing services): $1,704,000.

Description: 29 CFR 1926.900(k)(3)(i) requires a prominent display of adequate warning signs against the use of mobile transmitters. If the signs are infeasible, an alternative method needs to be developed to prevent the premature detonation of electric blasting caps by mobile radio transmitters.

Agency: Occupational Safety and Health Administration (OSHA).

Title: Vehicle-Mounted Elevating and Rotating Work Platforms (Aerial Lifts).

Type of Review: Extension.

OMB Number: 1218-0230.

Frequency: On occasion.

Type of Response: Recordkeeping and Third-party disclosure.

Affected Public: Business or other for-profit; Not-for-profit institutions; Federal Government; and State, Local, or Tribal Government.

Number of Respondents: 900.

Number of Annual Responses: 900.

Estimated Time Per Response: 3 minutes.

Total Burden Hours: 45.

Total Annualized capital/startup costs: $0.

Total annual costs (operating/maintaining systems or purchasing services): $0.

Description: 29 CFR 1910.167(b)(2) requires that when aerial lifts are “field modified” for uses other than those intended by the manufacturer, the manufacturer or other equivalent entity, such as a nationally recognized testing laboratory, must certify in writing that the modification is in conformity with all applicable provisions of ANSI A92.2-1969 and the OSHA standard and that the modified aerial lift is at least as safe as the equipment was before modifications. Employers are to maintain the certification record and make it available to OSHA compliance officers. This record provides assurance to employers, employees, and compliance officers that the modified aerial lift was inspected and/or tested after the modification and that the aerial lift is safe for use, thereby, preventing failure while employees are being elevated.

Agency: Occupational Safety and Health Administration (OSHA).

Title: Material Hoist, Personnel Hoist, and Elevators; Posting Requirements, Test and Inspections.

Type of Review: Extension.

OMB Number: 1218-0231.

Frequency: On occasion and Quarterly.

Type of Response: Record keeping and Third-party disclosure.

Affected Public: Business or other for-profit; Not-for-profit institutions; Federal Government; and State, Local, or Tribal Government.

Number of Respondents: 26,547.

Number of Annual Responses: 130,095.

Estimated Time Per Response: 30 minute for a manufacturer to obtain and post required information on factory-built hoist and elevators; 5 minutes for an employer to post required information on site-built hoist; and 15 minutes to conduct inspections

Total Burden Hours: 30,271.

Total Annualized capital/startup costs: $0.

Total annual costs (operating/maintaining systems or purchasing services): $0.

Description: The Material Hoists, Personnel Hoists, and Elevators Standard [29 CFR 1926.552(a)(2), (b)(1)(i), (c)(10), and (c)(15)] specifies that the following paperwork requirements, as well as how they use it.

Posting requirements: Paragraphs (a)(2) and (c)(10) specifies that the rated load capacities, operating speed and special hazard warning be posted securely on cars, platforms, personnel hoists. Paragraphs (b)(1)(i) specifies that operating rules that have been established be posted as the operator's station of the hoist, such rules shall include signal system, allowable line speed for various loads.

Personnel Hoists Record for Test and Inspection: Paragraph (c)(15) specifies that the employer perform tests and inspection on personnel hoist at no more than 3-month intervals and following any alterations on the equipment. In addition the employer must certify and maintain these records to show the compliance officer upon inspection.

Agency: Occupational Safety and Health Administration (OSHA).

Title: Crawler, Truck and Locomotive Cranes.

Type of Review: Extension.

OMB Review: 1218-0232.

Frequency: Monthly.

Type of Response: Recordkeeping.

Affected Public: Business or other for-profit and State, Local, or Tribal Government.

Number of Respondents: 21,238.

Number of Annual Responses: 254,856.

Estimated Time Per Response: 30 minutes.

Total Burden Hours: 127,428.

Total Annualized capital/startup costs: $0.

Total annual costs (operating/maintaining systems or purchasing services): $0.

Description: 29 CFR 1926.550(b)(2) requires employers to prepare and maintain an certification record which includes the date, listing of critical items inspected, signature of person performing the inspections, and a serial number or identifier of the crane inspected as specified in ANSI B30.5-1968, Safety Code for Crawler, Locomotive and Truck Cranes.

Ira L. Mills,
Departmental Clearance Officer.

[FR Doc. 02-22693 Filed 9-5-02; 8:45 am]

BILLING CODE 4510-26-M